DEPARTMENT OF HEALTH AND HUMAN SERVICES

Health Resources and Services Administration

Availability of Funds; Correction

AGENCY: Health Resources and Services Administration, HHS.

ACTION: Correction and extension of time for application deadline.

SUMMARY: This notice corrects an Internet address for accessing application materials and extends the time that applications will be accepted for fiscal year 2002 competitive Cooperative Agreements for Health Workforce research that was published in the Federal Register on Thursday, May 23, 2002 (67 FR 36198) [FR Doc. 02-12928]. That notice announced that applications must be received by mail or delivered to the HRSA Grants Application Center by no later than June 19, 2002. The deadline for applications has been extended and applications must be received by mail or delivered to the HRSA Grants Application Center, 901 Russell Avenue, Suite 450, Gaithersburg Maryland, 20879, by no later than July 8, 2002. Additionally, the Internet address given in the above referenced Federal Register notice for accessing application materials was incorrect. The correct Internet address for accessing application materials is hrsagac@hrsa.gov.

FOR FURTHER INFORMATION CONTACT: Sarah Richards (phone 301-443-5452 or via e-mail at srichards@hrsa.gov) or Louis Kuta (phone 301-443-6634 or via e-mail at lkuta@hrsa.gov).

Dated: May 31, 2002.
Jane M. Harrison,
Director, Division of Policy Review and Coordination.

[FR Doc. 02-14170 Filed 6-5-02; 8:45 am]

BILLING CODE 4165-15-P